DEPARTMENT OF AGRICULTURE

Agricultural Marketing Service

[Doc. # TM-02-08]

Notice of Farm Security and Rural Investment Act of 2002 National Organic Certification Cost-Share Program

AGENCY: Agricultural Marketing Services, USDA.

ACTION: Notice.

SUMMARY: This Notice invites all States of the United States of America, its territories, the District of Columbia, and the Commonwealth of Puerto Rico (collectively hereinafter called States) to submit a Standard Form 424, Application for Federal Assistance, and to enter into a Cooperative Agreement with the Agricultural Marketing Service for the Allocation of National Organic Certification Cost-Share Funds. The Agricultural Marketing Service (AMS) has allocated $5.0 million for this organic certification cost-share program in Fiscal Year 2002. Funds will be available under this program to all interested States to assist organic producers or organic handlers certified to the National Organic Program. States interested in obtaining cost-share funds for their organic producers or organic handlers will have to submit an Application for Federal Assistance, and will have to enter into a cooperative agreement with AMS for the allocation of such funds.

DATES: Completed applications for federal assistance along with signed cooperative agreements must be received by December 31, 2002 in order to participate in the program.

ADDRESSES: Applications for federal assistance and cooperative agreements shall be requested from and submitted to: Robert Pooler, Marketing Specialist, National Organic Program, USDA/AMS/TMP/NOP, Room 4008-South, Ag Stop 0268, 1400 Independence Avenue, SW., Washington, DC 20250-0264; Telephone: (202) 720-3252; Fax: (202) 205-7808; E-mail: bob.pooler@usda.gov. Additional information may be found through the National Organic Program's homepage at http://www.ams.usda.gov/nop.

FOR FURTHER INFORMATION CONTACT: Robert Pooler, Marketing Specialist, National Organic Program, USDA/AMS/TM/NOP, Room 4008-South, Ag Stop 0268, 1400 Independence Avenue, SW., Washington, DC 20250-0264; Telephone: (202) 720-3252; Fax: (202) 205-7808; E-mail: bob.pooler@usda.gov.

SUPPLEMENTARY INFORMATION: This National Organic Certification Cost-Share Program is part of the Farm Security and Rural Investment Act of 2002 (Act) Public Law 107-171, 116 Stat. 134, 7 U.S.C. § 6523. Under this Act, USDA is authorized to provide certification cost share assistance to producers or handlers of organic agricultural products in all States. This National Organic Certification Cost-Share Program provides financial assistance to organic producers or organic handlers of agricultural products in obtaining certification under the National Organic Program authorized under the Organic Foods Production Act of 1990, as amended (7 U.S.C. 6501 et seq.). To participate in the program, interested States must complete a Standard Form 424, Application for Federal Assistance, and enter into a written cooperative agreement with AMS. The program will provide cost-share assistance, through participating States, to organic producers or organic handlers who have been certified by a USDA accredited certifying agent to the National Organic Program beginning April 29, 2002. Sections 10606 (b)(1) and (2) 7 U.S.C. 6523, of the Act requires that payments be limited to 75 percent of the costs incurred by a producer or handler in obtaining certification under the National Organic Program as certified to and approved by the Secretary, up to a maximum of $500.00 per year.

Producers who participate in the Organic Certification Cost-Share Program authorized under Section 1524 of the Federal Crop Insurance Act, as amended, (7 U.S.C. 1501-1524) are not eligible to participate in the producer portion of the National Organic Certification Cost-Share Program.

Authority: Pub. L. No. 107-171-116 Stat. 134, 7 U.S.C. § 6523.

Dated: October 28, 2002.
A.J. Yates,
Administrator, Agricultural Marketing Service.

[FR Doc. 02-27768 Filed 10-31-02; 8:45 am]

BILLING CODE 3410-02-P